DEPARTMENT OF LABOR

Employment and Training Administration

[TA-W-62,510 and TA-W-62,510A]

Cuno, Inc., Meriden, CT and Enfield, CT; Notice of Termination of Investigation

Pursuant to Section 221 of the Trade Act of 1974, as amended, an investigation was initiated on November 29, 2007 in response to a petition filed by a State agency representative on behalf of workers of two locations of Cuno, Inc., namely Meriden, Connecticut (TA-W-62,510) and Enfield, Connecticut (TA-W-62,510A).

The petitioner has requested that the petition be withdrawn. Consequently, the investigation has been terminated.

Signed in Washington, DC, this 13th day of December 2007.
Linda G. Poole,
Certifying Officer, Division of Trade Adjustment Assistance.

[FR Doc. E7-24546 Filed 12-18-07; 8:45 am]

BILLING CODE 4510-FN-P